DEPARTMENT OF HOMELAND SECURITY

Federal Emergency Management Agency

[Docket ID FEMA-2015-0001; Internal Agency Docket No. FEMA-B-1505]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: April 22, 2015.
Roy E. Wright,
Deputy Associate Administrator for Mitigation, Department of Homeland Security, Federal Emergency Management Agency.

State and county | Location and case No. | Chief executive officer of community | Community map repository | Online location of letter of map revision | Effective date of modification | Community No.
Alabama: Shelby | Unincorporated areas of Shelby County (14-04-A927P) | The Honorable Rick Shepherd, Chairman, Shelby County Board of Commissioners, 200 West College Street, Columbiana, AL 35051 | Shelby County Engineer's Office, 506 Highway 70, Columbiana, AL 35051 | http://www.msc.fema.gov/lomc | June 1, 2015 | 010191
Arizona:
Maricopa | City of Phoenix (14-09-3346P) | The Honorable Greg Stanton, Mayor, City of Phoenix, 200 West Washington Street, 11th Floor, Phoenix, AZ 85003 | Street Transportation Department, 200 West Washington Street, 5th Floor, Phoenix, AZ 85003 | http://www.msc.fema.gov/lomc | May 28, 2015 | 040051
Mojave | City of Bullhead City (14-09-3576P) | The Honorable Tom Brady, Mayor, City of Bullhead City, 2355 Trane Road, Bullhead City, AZ 86442 | Emergency Management Department, 1255 Marina Boulevard, Bullhead City, AZ 86442 | http://www.msc.fema.gov/lomc | May 14, 2015 | 040125
Yavapai | Town of Clarkdale (14-09-3026P) | The Honorable Doug Von Gausig, Mayor, Town of Clarkdale, P.O. Box 308, Clarkdale, AZ 86324 | Public Works Department, 890 Main Street, Clarkdale, AZ 86324 | http://www.msc.fema.gov/lomc | May 14, 2015 | 040095
Yavapai | Unincorporated areas of Yavapai County (14-09-3026P) | The Honorable Rowle P. Simmons, Chairman, Yavapai County Board of Supervisors, 1015 Fair Street, Prescott, AZ 86305 | Yavapai County Flood Control District, 500 South Marina Street, Prescott, AZ 86303 | http://www.msc.fema.gov/lomc | May 14, 2015 | 040093
California:
Riverside | Unincorporated areas of Riverside County (14-09-2663P) | The Honorable Marion Ashley, Chairman, Riverside County Board of Supervisors, 4080 Lemon Street, 5th Floor, Riverside, CA 92501 | Riverside County Flood Control and Water Conservation District, 1995 Market Street, Riverside, CA 92501 | http://www.msc.fema.gov/lomc | May 28, 2015 | 060245
Sacramento | City of Folsom (15-09-0527P) | The Honorable Andy Morin, Mayor, City of Folsom, 50 Natoma Street, Folsom, CA 95630 | Public Works Department, 50 Natoma Street, Folsom, CA 95630 | http://www.msc.fema.gov/lomc | May 28, 2015 | 060263
Colorado:
Arapahoe | City of Aurora (14-08-1180P) | The Honorable Steve Hogan, Mayor, City of Aurora, 15151 East Alameda Parkway, Aurora, CO 80012 | City Hall, 15151 East Alameda Parkway, Aurora, CO 80012 | http://www.msc.fema.gov/lomc | May 22, 2015 | 080002
Arapahoe | City of Centennial (14-08-1180P) | The Honorable Cathy Noon, Mayor, City of Centennial, 13133 East Arapahoe Road, Centennial, CO 80112 | Southeast Metro Stormwater Authority, 7437 South Fairplay Street, Centennial, CO 80112 | http://www.msc.fema.gov/lomc | May 22, 2015 | 080315
Arapahoe | Unincorporated areas of Arapahoe County (14-08-1180P) | The Honorable Nancy Doty, Chair, Arapahoe County Board of Commissioners, 5334 South Prince Street, Littleton, CO 80120 | Arapahoe County Public Works Department, 6924 South Lima Street, Centennial, CO 80112 | http://www.msc.fema.gov/lomc | May 22, 2015 | 080011
Ouray | Town of Ridgway (14-08-1315P) | The Honorable John Clark, Mayor, Town of Ridgway, P.O. Box 10, Ridgway, CO 81432 | Town Hall, 201 North Railroad Street, Ridgway, CO 81432 | http://www.msc.fema.gov/lomc | May 29, 2015 | 080138
Florida:
Bradford | City of Starke (15-04-2615P) | The Honorable Travis Woods, Mayor, City of Starke, P.O. Drawer C, Starke, FL 32091 | City Clerk's Office, 209 North Thompson Street, Starke, FL 32091 | http://www.msc.fema.gov/lomc | May 15, 2015 | 120017
Collier | City of Marco Island (15-04-0522P) | The Honorable Larry Sacher, Chairman, City of Marco Island Council, 50 Bald Eagle Drive, Marco Island, FL 34145 | City Hall, 50 Bald Eagle Drive, Marco Island, FL 34145 | http://www.msc.fema.gov/lomc | May 7, 2015 | 120426
Lee | Unincorporated areas of Lee County (14-04-8329P) | The Honorable Brian Hamman, Chairman, Lee County Board of Commissioners, P.O. Box 398, Fort Myers, FL 33902 | Lee County Community Development Department, 1500 Monroe Street, 2nd Floor, Fort Meyers, FL 33901 | http://www.msc.fema.gov/lomc | May 12, 2015 | 125124
Manatee | Unincorporated areas of Manatee County (14-04-8724P) | The Honorable Larry Bustle, Chairman, Manatee County Board of Commissioners, 1112 Manatee Avenue West, 9th Floor, Bradenton, FL 34205 | Manatee County Building and Development Services Department, 1112 Manatee Avenue West, Bradenton, FL 34205 | http://www.msc.fema.gov/lomc | June 5, 2015 | 120153
Monroe | Village of Islamorada (14-04-A708P) | The Honorable Mike Forester, Mayor, Village of Islamorada, 86800 Overseas Highway, Islamorada, FL 33036 | Village Hall, 87000 Overseas Highway, Islamorada, FL 33036 | http://www.msc.fema.gov/lomc | May 4, 2015 | 120424
Monroe | Unincorporated areas of Monroe County (14-04-A180P) | The Honorable Danny Kolhage, Mayor, Monroe County Board of Commissioners, 1100 Simonton Street, Key West, FL 33040 | Monroe County Planning and Environmental Resources Department, 2798 Overseas Highway, Marathon, FL 33050 | http://www.msc.fema.gov/lomc | May 7, 2015 | 125129
Seminole | City of Longwood (14-04-7277P) | The Honorable John C. Maingot, Mayor, City of Longwood, 175 West Warren Avenue, Longwood, FL 32750 | Building and Planning Department, 174 West Church Avenue, Longwood, FL 32750 | http://www.msc.fema.gov/lomc | May 15, 2015 | 120292
Seminole | Unincorporated areas of Seminole County (14-04-7277P) | The Honorable Bob Dallari, Chairman, Seminole County Board of Commissioners, 1101 East 1st Street, Sanford, FL 32771 | Seminole County Building Division, 1101 East 1st Street, Sanford, FL 32771 | http://www.msc.fema.gov/lomc | May 15, 2015 | 120289
St. Johns | Unincorporated areas of St. Johns County (14-04-8520P) | The Honorable Rachael Bennett, Chairman, St. Johns County Board of Commissioners, 500 San Sebastian View, St. Augustine, FL 32084 | St. Johns County Administrative Building, 4020 Lewis Speedway, St. Augustine, FL 32084 | http://www.msc.fema.gov/lomc | May 14, 2015 | 125147
Georgia:
Cherokee | Unincorporated areas of Cherokee County (14-04-8555P) | The Honorable L.B. Ahrens, Chairman, Cherokee County Board of Commissioners, 1130 Bluffs Parkway, Canton, GA 30114 | Cherokee County Administrative Office, 130 East Main Street, Suite 106, Canton, GA 30114 | http://www.msc.fema.gov/lomc | May 18, 2015 | 130424
Cobb | City of Smyrna (14-04-9804P) | The Honorable Arthur Max Bacon, Mayor, City of Smyrna, 2800 King Street, Smyrna, GA 30080 | City Engineer's Office, 2800 King Street, Smyrna, GA 30080 | http://www.msc.fema.gov/lomc | May 18, 2015 | 130057
Columbia | Unincorporated areas of Columbia County (15-04-1887P) | The Honorable Ron C. Cross, Chairman, Columbia County Board of Commissioners, P.O. Box 498, Evans, GA 30809 | Columbia County Planning Department, 603 Ronald Reagan Drive, Building B, 1st Floor, Evans, GA 30809 | http://www.msc.fema.gov/lomc | May 28, 2015 | 130059
Kentucky:
Scott | City of Georgetown (14-04-4874P) | The Honorable Everett Varney, Mayor, City of Georgetown, 100 Court Street, Georgetown, KY 40324 | Planning Commission, 230 East Main Street, Georgetown, KY 40324 | http://www.msc.fema.gov/lomc | May 29, 2015 | 210208
Scott | Unincorporated areas of Scott County (14-04-4874P) | The Honorable George Lusby, Scott County Judge, 101 East Main Street, Georgetown, KY 40324 | Scott County Building Inspections Department, 100 Court Street, Georgetown, KY 40324 | http://www.msc.fema.gov/lomc | May 29, 2015 | 210207
Mississippi: Rankin | City of Brandon (14-04-8704P) | The Honorable Butch Lee, Mayor, City of Brandon, P.O. Box 1539, Brandon, MS 39043 | City Hall, 1000 Municipal Drive, Brandon, MS 39042 | http://www.msc.fema.gov/lomc | May 12, 2015 | 280143
Montana: Ravalli | Unincorporated areas of Ravalli County (15-08-0109P) | The Honorable Jeff Burrows, Chairman, Ravalli County Board of Commissioners, 215 South 4th Street, Suite A, Hamilton, MT 59840 | Floodplain Map Repository, 215 South 4th Street, Suite A, Hamilton, MT 59840 | http://www.msc.fema.gov/lomc | June 8, 2015 | 300061
Nevada: Douglas | Unincorporated areas of Douglas County (14-09-4114P) | The Honorable Doug N. Johnson, Chairman, Douglas County Board of Commissioners, P.O. Box 218, Minden, NV 89423 | Douglas County Public Works Department, 1615 8th Street, Minden, NV 89423 | http://www.msc.fema.gov/lomc | May 28, 2015 | 320008
North Carolina:
Cabarrus | Town of Harrisburg (14-04-6011P) | The Honorable Steve Sciascia, Mayor, Town of Harrisburg, 4100 Mail Street, Harrisburg, NC 28075 | Planning Department, 4100 Main Street, Harrisburg, NC 28075 | http://www.msc.fema.gov/lomc | February 26, 2015 | 370038
Durham | City of Durham (14-04-4200P) | The Honorable William V. Bell, Mayor, City of Durham, 101 City Hall Plaza, Durham, NC 27701 | Public Works Department, 101 City Hall Plaza, Durham, NC 27701 | http://www.msc.fema.gov/lomc | February 17, 2015 | 370086
South Carolina:
Beaufort | Town of Bluffton (15-04-2707P) | The Honorable Lisa Sulka, Mayor, Town of Bluffton, 20 Bridge Street, Bluffton, SC 29910 | Growth Management Customer Service Center, 20 Bridge Street, Bluffton, SC 29910 | http://www.msc.fema.gov/lomc | June 5, 2015 | 450251
Charleston | Town of Mount Pleasant (15-04-0360P) | The Honorable Linda Page, Mayor, Town of Mount Pleasant, 100 Ann Edwards Lane, Mount Pleasant, SC 29464 | Town Hall, 100 Ann Edwards Lane, Mount Pleasant, SC 29464 | http://www.msc.fema.gov/lomc | June 1, 2015 | 455417
Richland | Unincorporated areas of Richland County (14-04-5349P) | The Honorable Norman Jackson, Chairman, Richland County Council, P.O. Box 192, Columbia, SC 29201 | Richland County Floodplain Coordinator, 2020 Hampton Street, 1st Floor, Columbia, SC 29204 | http://www.msc.fema.gov/lomc | May 18, 2015 | 450170
South Dakota:
Lincoln | Town of Harrisburg (14-08-0638P) | The Honorable Julie Burke-Bowen, Mayor, Town of Harrisburg, P.O. Box 26, Harrisburg, SD 57032 | City Hall, 203 Prairie Street, Harrisburg, SD 57032 | http://www.msc.fema.gov/lomc | May 22, 2015 | 460114
Lincoln | Unincorporated areas of Lincoln County (14-08-0638P) | The Honorable Dale Long, Chairman, Lincoln County Board of Commissioners, 104 North Main Street, Canton, SD 57013 | Lincoln County Court House, 105 East 5th Street, Canton, SD 57013 | http://www.msc.fema.gov/lomc | May 22, 2015 | 460277
Tennessee: Shelby | Town of Collierville (14-04-6821P) | The Honorable Stan Joyner, Jr., Mayor, Town of Collierville, 500 Poplar View Parkway, Collierville, TN 38017 | Town Hall, 500 Poplar View Parkway, Collierville, TN 38017 | http://www.msc.fema.gov/lomc | May 8, 2015 | 470263
Utah:
Washington | City of St. George (14-08-1160P) | The Honorable Jon Pike, Mayor, City of St. George, 175 East 200 North, St. George, UT 84770 | Engineering Department, 175 East 200 North, St. George, UT 84770 | http://www.msc.fema.gov/lomc | May 14, 2015 | 490177
Washington | Unincorporated areas of Washington County (14-08-1160P) | The Honorable James J. Eardley, Chairman, Washington County Board of Commissioners, 197 East Tabernacle Street, St. George, UT 84770 | Washington County Planning Department, 197 East Tabernacle Street, St. George, UT 84770 | http://www.msc.fema.gov/lomc | May 14, 2015 | 490224

[FR Doc. 2015-11848 Filed 5-14-15; 8:45 am]

BILLING CODE 9110-12-P